Proclamation 10436 of August 31, 2022

National Recovery Month, 2022

By the President of the United States of America

A Proclamation

Today, more than 20 million Americans are recovering from substance use disorder. Whether they are parents, children, siblings, neighbors, co-workers, or friends, many of us are close to someone working to overcome drug or alcohol addiction. In celebration of Americans on the road to recovery, this National Recovery Month we recommit to helping prevent substance use disorder, supporting those who are still struggling, and providing people in recovery with the resources they need to live full and healthy lives.

When our fellow Americans recover from substance use disorder, our Nation becomes stronger and more resilient. Still, we recognize that the path to full recovery can be long and demanding. For many struggling with untreated addiction, securing reliable housing and long-term employment can be a challenge, restoring relationships can take time, and treatment and recovery services can be expensive and hard to find. These obstacles are amplified for Tribal and other underserved communities, including rural communities that must often travel farther to find care. Black and Brown Americans are also often subject to harsher penalties for addiction-related charges.

My Administration is working to ensure that achieving and sustaining recovery is within reach for every American and that everyone has equal access to economic mobility and improved health. This year, we secured nearly $22 billion from the Congress to support drug prevention, treatment, harm reduction, and recovery support services, with a focus on underserved communities. With the additional $4 billion investment from our American Rescue Plan, my Administration is expanding recovery community organizations, recovery high schools, collegiate recovery programs, and recovery residences. These vital support networks allow people to balance healing with their everyday responsibilities. We are also advocating for recovery-ready workplace policies across the public and private sectors to promote inclusive hiring, enable employers to assist in the recovery process, and help companies retain talent. And to incentivize new innovations, the Department of Health and Human Services is launching its first-ever behavioral health Recovery Innovation Challenge to award funding to peer-run and community-based programs that advance recovery and can be scaled nationwide.

As I outlined in my State of the Union address this year, a key pillar of my Unity Agenda is beating the opioid epidemic. Drug overdoses have taken a heartbreaking toll on our country, and addressing untreated addiction is a key component of our National Drug Control Strategy. We also recognize that alcoholism remains one of the leading preventable causes of death in the United States. We owe it to the loved ones we have lost to overdose and addiction to ensure that fewer harmful substances—and particularly illegally manufactured synthetic drugs—reach our communities and that people have greater access to mental health and substance use disorder services. That is why I am calling for more Federal funding to equip law enforcement agencies with the resources they need to target drug trafficking at our border and disrupt traffickers' financial networks. It is also why I am calling for a historic investment to transform behavioral health services across America and help Americans receive the support they need and deserve.

As we consider the work ahead, let us remember that there are many pathways to recovery and that overcoming substance use disorder is courageous and difficult. Let us also understand the importance of eliminating the stigmatization of addiction. I believe everyone who experiences substance use disorder is capable of achieving and sustaining recovery, and my Administration will support all Americans on this journey.

This National Recovery Month, we thank peer recovery support professionals, counselors, addiction specialists, first responders, scientists, family members, and everyone who works tirelessly to help our fellow Americans recover from substance use disorder. We offer strength to our loved ones at every step of their recovery process. And we rededicate ourselves to protecting our families and communities so all Americans can enjoy health and happiness.

NOW, THEREFORE, I, JOSEPH R. BIDEN JR., President of the United States of America, by virtue of the authority vested in me by the Constitution and the laws of the United States, do hereby proclaim September 2022 as National Recovery Month. I call upon all citizens, government agencies, private businesses, nonprofit organizations, and other groups to take action to promote recovery and improve the health of our Nation.

IN WITNESS WHEREOF, I have hereunto set my hand this thirty-first day of August, in the year of our Lord two thousand twenty-two, and of the Independence of the United States of America the two hundred and forty-seventh.

[FR Doc. 2022-19301

Filed 9-2-22; 8:45 am]

Billing code 3395-F2-P